ENVIRONMENTAL PROTECTION AGENCY

[FRL-8704-5]

Notice of Proposed Administrative Settlement Pursuant to the Comprehensive Environmental Response, Compensation, and Liability Act, as Amended; Midway Village/Bayshore Park Site

AGENCY: Environmental Protection Agency.

ACTION: Notice, request for public comments.

SUMMARY: In accordance with Section 122(i) of the Comprehensive Environmental Response, Compensation, and Liability Act (“CERCLA”), as amended, 42 U.S.C. 9622(i), notice is hereby given of a proposed Administrative Agreement for Recovery of Past Response Costs (“Agreement,” Region 9 Docket No. 2005-18) pursuant to Section 122(h) of CERCLA concerning the Midway Village/Bayshore Park Site (the “Site”), located in Daly City, San Mateo County, California. The settling parties to the Agreement include Pacific Gas & Electric Company (“PG&E”), the U.S. Department of Housing and Urban Development (“HUD”), and the U.S. Navy (“the Navy”). Through the proposed Agreement, PG&E will reimburse the United States $12,596.30 and HUD and the Navy will reimburse the United States $113,366.66 in response costs incurred at a portion of the Site. The Agreement provides the settling parties with a covenant not to sue for these past response costs, but does not limit EPA's ability to pursue the settling parties for future costs or for past response costs incurred at the portion of the Site not covered in the Agreement. For thirty (30) days following the date of publication of this Notice, the Agency will receive written comments relating to the proposed Agreement. The Agency's response to any comments received will be available for public inspection at EPA's Region IX offices, located at 75 Hawthorne Street, San Francisco, California 94105.

DATES: Comments must be submitted on or before September 15, 2008.

ADDRESSES: The proposed Agreement may be obtained from Sara Goldsmith, in the Office of Regional Counsel, telephone (415) 972-3931. Comments regarding the proposed Agreement should be addressed to Sara Goldsmith at the U.S. Environmental Protection Agency (ORC-3), 75 Hawthorne Street, San Francisco, California 94105, and should reference the Midway Village/Bayshore Park Site, and Region IX Docket No. 2005-18.

FOR FURTHER INFORMATION CONTACT: Sara Goldsmith, Office of Regional Counsel, (415) 972-3931, U.S. Environmental Protection Agency, Region 9, 75 Hawthorne Street, San Francisco, CA 94105.

Dated: August 5, 2008.
Nancy Lindsey,
Acting Director, Superfund Division.

[FR Doc. E8-18838 Filed 8-13-08; 8:45 am]

BILLING CODE 6560-50-P